ENVIRONMENTAL PROTECTION AGENCY

[FRL OP-OFA-157]

Environmental Impact Statements; Notice of Availability

Responsible Agency: Office of Federal Activities, General Information 202-564-5632 or https://www.epa.gov/nepa.

Weekly receipt of Environmental Impact Statements (EIS)

Filed December 9, 2024 10 a.m. EST Through December 16, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240236, Draft, USA, NC, MOTSU Real Property Master Plan Implementation, Comment Period Ends: 02/04/2025, Contact: Adrienne Rogers 571-644-8909.

EIS No. 20240237, Final, DOE, AK, ADOPTION—Angoon Hydroelectric Project Construction and Operation Special-Use-Authorization Thayer Creek Admiralty Island National Monument Tongass National Forest AK, Review Period Ends: 01/21/2025, Contact: Gretchen Applegate 240-252-0399.

The Department of Energy (DOE) has adopted the Forest Service's Final EIS No. 20090068 filed 03/11/2009 with the Environmental Protection Agency. The DOE was not a cooperating agency on this project. Therefore, republication of the document is necessary under Section 1506.3(b)(1) of the CEQ regulations.

EIS No. 20240238, Final, USFS, NM, South Sacramento Restoration Project, Review Period Ends: 02/18/2025, Contact: David Baker 541-671-1023.

EIS No. 20240239, Draft, BLM, ID, Caldwell Canyon Revised Mine and Reclamation Plan, Comment Period Ends: 02/03/2025, Contact: Barry Myers 208-559-3662.

EIS No. 20240240, Revised Draft, USACE, NJ, New Jersey Back Bays Coastal Storm Risk Management Supplemental Draft Integrated Feasibility Report and Environmental Impact Statement, Comment Period Ends: 02/18/2025, Contact: Steven D. Allen 215-656-6559.

Dated: December 16, 2024.
Mark Austin,
Acting Director, NEPA Compliance Division, Office of Federal Activities.

[FR Doc. 2024-30399 Filed 12-19-24; 8:45 am]

BILLING CODE 6560-50-P